OFFICE OF THE UNITED STATES TRADE REPRESENTATIVE

Notice of Product Exclusion Extensions: China's Acts, Policies, and Practices Related to Technology Transfer, Intellectual Property, and Innovation

AGENCY: Office of the United States Trade Representative (USTR).

ACTION: Notice.

SUMMARY: In prior notices, the U.S. Trade Representative modified the action in the Section 301 investigation of China's acts, policies, and practices related to technology transfer, intellectual property, and innovation by excluding from additional duties certain medical-care products needed to address the COVID-19 pandemic. Exclusions for medical care products to address COVID-19 were published on December 29, 2020, and subsequently extended. In November 2021, the U.S. Trade Representative determined to extend 81 of the COVID-19 related product exclusions for an additional 6 months. These exclusions are scheduled to expire on May 31, 2022. This notice announces the U.S. Trade Representative's determination to further extend the 81 COVID exclusions for an additional 6 months.

DATES: The extensions announced in this notice will extend the product exclusions through November 30, 2022.

FOR FURTHER INFORMATION CONTACT: For general questions about this notice, contact Associate General Counsel Philip Butler or Assistant General Counsel Rachel Hasandras at (202) 395-5725. For specific questions on customs classification or implementation of the product exclusions, contact traderemedy@cbp.dhs.gov.

SUPPLEMENTARY INFORMATION:

A. Background

On December 29, 2020 (85 FR 85831), USTR announced the extension of 80 product exclusions on medical-care and/or COVID response products; further modifications in the form of 19 product exclusions to remove Section 301 duties from additional medical-care and/or COVID response products; and that USTR might consider further extensions and/or modifications as appropriate.

On March 10, 2021 (86 FR 13785), USTR extended These 99 exclusions until September 30, 2021. On August 27, 2021 (86 FR 48280), USTR published a notice requesting public comments on whether any of these exclusions should be further extended for up to six months. To provide time for USTR to review the comments it received in response to the August 27 notice, USTR announced interim extensions of these 99 exclusions through November 14, 2021 (86 FR 54011), and then through November 30, 2021.

On November 16, 2021 (86 FR 63438), USTR announced the extension of 81 of the COVID exclusions for an additional 6 months (until May 31, 2022) and that USTR might consider further extensions and/or modifications as appropriate.

B. Determination To Extend COVID Exclusions

In light of the continuing efforts to combat COVID-19, the U.S. Trade Representative has determined that a 6-month extension of the 81 COVID-19-related product exclusions is warranted. The U.S. Trade Representative's decision to extend the 81 product exclusions takes into account public comments previously provided, and the advice of advisory committees and the interagency Section 301 Committee.

As provided in the November 16 notice, the exclusion extensions are available for any product that meets the description in the product exclusion. Further, the scope of each extended product exclusion is governed by the scope of the ten-digit Harmonized Tariff Schedule of the United States (HTSUS) statistical reporting numbers and product descriptions in note 20(sss) to subchapter III of chapter 99 of the HTSUS. U.S. Customs and Border Protection will issue instructions on entry guidance and implementation.

The U.S. Trade Representative may continue to consider further extensions and/or additional modifications as appropriate.

Annex

The U.S. Trade Representative has determined to extend all exclusions previously extended under heading 9903.88.66 and U.S. notes 20(sss)(i), 20(sss)(ii), 20(sss)(iii), and 20(sss)(iv) to subchapter III of chapter 99 of the Harmonized Tariff Schedule of the United States (HTSUS). See 86 FR 63438 (November 16, 2021). The extension is effective with respect to goods entered for consumption, or withdrawn from warehouse for consumption, on or after 12:01 a.m. eastern daylight time on June 1, 2022, and before 11:59 p.m. eastern daylight time on November 30, 2022. Effective on June 1, 2022, the article description of heading 9903.88.66 of the HTSUS is modified by deleting “June 1, 2022,” and by inserting “December 1, 2022,” in lieu thereof.

Greta Peisch,
General Counsel, Office of the United States Trade Representative.

[FR Doc. 2022-11884 Filed 6-2-22; 8:45 am]

BILLING CODE 3290-F2-P